DEPARTMENT OF TRANSPORTATION

Federal Motor Carrier Safety Administration

[Docket No. FMCSA-2015-0053]

Qualification of Drivers; Exemption Applications; Vision

AGENCY: Federal Motor Carrier Safety Administration (FMCSA), DOT.

ACTION: Notice of applications for exemptions; request for comments.

SUMMARY: FMCSA announces receipt of applications from 27 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before August 12, 2015. All comments will be investigated by FMCSA. The exemptions will be issued the day after the comment period closes.

ADDRESSES: You may submit comments bearing the Federal Docket Management System (FDMS) Docket No. FMCSA-2015-0053 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 27 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Joel D. Barchard

Mr. Barchard, 48, has had esotropia with amblyopia in his right eye since birth. The visual acuity in his right eye is 20/150, and in his left eye, 20/20. Following an examination in 2015, his optometrist stated, “I believe that he has sufficient vision to perform the driving tasks required to operate a commercial vehicle at this time.”

Mr. Barchard reported that he has driven tractor-trailer combinations for 13 years, accumulating 650,000 miles. He holds a Class A CDL from Massachusetts. His driving record for the last 3 years shows no crashes and no convictions for moving violations in a CMV.

Homer L. Butler

Mr. Butler, 65, has had strabismic amblyopia in his left eye since childhood. The visual acuity in his right eye is 20/20, and in his left eye, 20/400. Following an examination in 2014, his optometrist stated, “With his glasses, his vision is sufficient to drive and to operate a commercial vehicle.” Mr. Butler reported that he has driven straight trucks for 40 years, accumulating 80,000 miles, tractor-trailer combinations for 49 years, accumulating 735,000 miles, and buses for 48 years, accumulating 48,000 miles. He holds a Class AM CDL from Pennsylvania. His driving record for the last 3 years shows no crashes and no convictions for moving violations in a CMV.

William D. Cherry

Mr. Cherry, 51, has had amblyopia in his left eye since childhood. The visual acuity in his right eye is 20/20, and in his left eye, 20/200. Following an examination in 2015, his optometrist stated, “In my opinion, provided that Mr. Cherry wears proper spectacle correction, he has sufficient vision to perform the driving tasks required to operate commercial vehicles.” Mr. Cherry reported that he has driven straight trucks for nine years, accumulating 342,000 miles. He holds a Class B CDL from Massachusetts. His driving record for the last 3 years shows no crashes and no convictions for moving violations in a CMV.

Thomas W. Chism

Mr. Chism, 53, has aphakia and a torn iris in his right eye due to a traumatic incident in childhood. The visual acuity in his right eye is 20/70, and in his left eye, 20/20. Following an examination in 2014, his optometrist stated, “In my medical opinion, Thomas W. Chism has sufficient vision to perform the driving tasks required to operate a commercial vehicle.” Mr. Chism reported that he has driven straight trucks for 34 years, accumulating 51,000 miles, tractor-trailer combinations for 34 years, accumulating 17,000 miles, and buses for 10 years, accumulating 7,500 miles. He holds a Class A CDL from Kansas. His driving record for the last 3 years shows no crashes and no convictions for moving violations in a CMV.

Pedro Del Bosque

Mr. Del Bosque, 61, has been farsighted in his left eye since birth. The visual acuity in his right eye is 20/25, and in his left eye, 20/80. Following an examination in 2015, his optometrist stated, “In my opinion thee [sic] are no restrictions on his vision on either eye which would impair his ability to drive a commercial vehicle safely.” Mr. Del Bosque reported that he has driven tractor-trailer combinations for 35 years, accumulating 4.2 million miles. He holds a Class AM CDL from Texas. His driving record for the last 3 years shows one crash, for which he was not cited and to which he did not contribute, and no convictions for moving violations in a CMV.

Anthony C. DeNaples

Mr. DeNaples, 34, has complete loss of vision in his right eye due to a traumatic incident in 2004. The visual acuity in his right eye is no light perception, and in his left eye, 20/20. Following an examination in 2015, his optometrist stated, “In my opinion, this field of vision and the visual acuity Anthony possess in the left eye would give him no reason not to be able to operate a commercial vehicle.” Mr. DeNaples reported that he has driven straight trucks for 17 years, accumulating 170,000 miles, and tractor-trailer combinations for 17 years, accumulating 170,000 miles. He holds a Class A CDL from Pennsylvania. His driving record for the last 3 years shows no crashes and no convictions for moving violations in a CMV.

Michael R. Doerr

Mr. Doerr, 33, has had keratoconnus in his left eye since 2003. The visual acuity in his right eye is 20/20, and in his left eye, 20/50. Following an examination in 2015, his optometrist stated, “It is my medical opinion that Mr. Doerr has the vision sufficient to safely operate a commercial vehicle.” Mr. Doerr reported that he has driven straight trucks for 10 years, accumulating 200,000 miles. He holds a Class B CDL from Idaho. His driving record for the last 3 years shows no crashes and no convictions for moving violations in a CMV.

Mark J. Dufresne

Mr. Dufresne, 58, has complete loss of vision in his left eye due to a traumatic incident in 1982. The visual acuity in his right eye is 20/20, and in his left eye, no light perception. Following an examination in 2015, his optometrist stated, “In my opinion, he has sufficient vision in the right eye to perform the driving tasks to operate a commercial vehicle.” Mr. Dufresne reported that he has driven straight trucks for 29 years, accumulating 45,240 miles, and tractor-trailer combinations for five years, accumulating 500 miles. He holds a Class A MC CDL from New Hampshire. His driving record for the last 3 years shows no crashes and no convictions for moving violations in a CMV.

Edward Dugue III

Mr. Dugue, 49, has a prosthetic right eye since 2007 due to central retinal vein occlusion with resulting neovascular glaucoma. The visual acuity in his right eye is no light perception, and in his left eye, 20/20. Following an examination in 2014, his optometrist stated, “Based on my evaluation, patient has sufficient vision to perform the driving tasks required to operate a commercial vehicle.” Mr. Dugue reported that he has driven straight trucks for 10 years, accumulating 265,000 miles. He holds a Class C CDL from North Carolina. His driving record for the last 3 years shows no crashes and no convictions for moving violations in a CMV.

Adoum H. Fadoul

Mr. Fadoul, 27, has complete loss of vision in his left eye due to a traumatic incident in 2006. The visual acuity in his right eye is 20/20, and in his left eye, no light perception. Following an examination in 2015, his ophthalmologist stated, “Based on vision in right eye, ability to drive commercial vehicle should be good.”

Mr. Fadoul reported that he has driven straight trucks for three years, accumulating 75,000 miles. He holds a chauffeur's license from Indiana. His driving record for the last 3 years shows no crashes and no convictions for moving violations in a CMV.

Larry R. Hayes, Jr.

Mr. Hayes, 44, has no light perception in his left eye due to a traumatic incident in childhood. The visual acuity in his right eye is 20/20, and in his left eye, no light perception. Following an examination in 2014, his optometrist stated, “I believe Larry has sufficient vision to safely drive commercial vehicles.” Mr. Hayes reported that he has driven tractor-trailer combinations for 26 years, accumulating 2.6 million miles. He holds a Class A CDL from Kansas. His driving record for the last 3 years shows no crashes and no convictions for moving violations in a CMV.

Bradley A. Hetrick

Mr. Hetrick, 57, has had amblyopia in his left eye since birth. The visual acuity in his right eye is 20/20, and in his left eye, 20/400. Following an examination in 2014, his optometrist stated, “Bradley Hetrick has a history of having a CDL liscense [sic] for over 20 years. Visual acuity corrected is 20/20 OD and J20/400 OS. Color vision with Ischihara 14 plates out of 14. 120 degree visual field testing shows no defects on the horizontal meridian . . . I believe he should be granted a vision waver [sic].”

Mr. Hetrick reported that he has driven straight trucks for 17 years, accumulating 340,000 miles. He holds a Class AM CDL from Pennsylvania. His driving record for the last 3 years shows no crashes and no convictions for moving violations in a CMV.

Wayne E. Jakob

Mr. Jakob, 56, has had exudative retinopathy in his right eye since 2011 due to Coats' disease. The visual acuity in his right eye is hand motion, and in his left eye, 20/20. Following an examination in 2015, his optometrist stated, “It is my medical opinion that Mr. Wayne E. Jakob has sufficient vision to perform the driving tasks required to operate a commercial vehicle.” Mr. Jakob reported that he has driven tractor-trailer combinations for 25 years, accumulating 687,500 miles. He holds a Class A CDL from Illinois. His driving record for the last 3 years shows noo crashes and no convictions for moving violations in a CMV.

Michael A. Kimbler

Mr. Kimbler, 59, has had central vein occlusion in his right eye since 2009. The visual acuity in his right eye is hand motion, and in his left eye, 20/20. Following an examination in 2015, his optometrist stated, “In my medical opinion,

Michael Kimbler has sufficient vision to perform the driving tasks required to operate a commercial vehicle.” Mr. Kimbler reported that he has driven straight trucks for 29 years, accumulating 1.11 million miles. He holds a Class C CDL from Texas. His driving record for the last 3 years shows no crashes and no convictions for moving violations in a CMV.

Colon W. King

Mr. King, 47, has had a corneal scar in his right eye since childhood. The visual acuity in his right eye is 20/100, and in his left eye, 20/20. Following an examination in 2014, his optometrist stated, “Therefore, it is my medical opinion that Mr. King has sufficient vision to perform the driving tasks required to operate a commercial vehicle.” Mr. King reported that he has driven straight trucks for 12 years, accumulating 576,000 miles, tractor-trailer combinations for 10 years, accumulating 1.14 million miles. He holds a Class A CDL from Maine. His driving record for the last 3 years shows no crashes and no convictions for moving violations in a CMV.

Earney J. Knox

Mr. Knox, 48, has complete loss of vision in his right eye due to a traumatic incident in 1995. The visual acuity in his right eye is no light perception, and in his left eye, 20/20. Following an examination in 2015, his optometrist stated, “In my opinion, Mr. Knox has exhibited the ability to drive accident free since 1995. His left eye vision is stable without disease process. I see no limitations for Mr. Knox to drive safely in a CMV.” Mr. Knox reported that he has driven straight trucks for seven years, accumulating 140,000 miles, and tractor-trailer combinations for seven years, accumulating 70,000 miles. He holds a Class A CDL from Missouri. His driving record for the last 3 years shows no crashes and no convictions for moving violations in a CMV.

James R. Leoffler, Jr.

Mr. Leoffler, 67, has had amblyopia in his left eye since childhood. The visual acuity in his right eye is 20/30, and in his left eye, 20/200. Following an examination in 2015, his ophthalmologist stated, “The patient apparently does not qualify for a commercial driver's license because of his longstanding amblyopia on the left, but I feel he should be considered for an exemption since he has a longstanding history of driving commercial vehicles without any problems.” Mr. Leoffler reported that he has driven straight trucks for 50 years, accumulating four million miles, and tractor-trailer combinations for 20 years, accumulating 20,000 miles. He holds a Class A CDL from Colorado. His driving record for the last 3 years shows no crashes and no convictions for moving violations in a CMV.

Jimmy D. Mannis

Mr. Mannis, 49, has had amblyopia in his left eye since birth. The visual acuity in his right eye is 20/20, and in his left eye, 20/200. Following an examination in 2015, his optometrist stated, “It is my opinion especially since Mr. Mannis has proven this in the past, he has sufficient vision to operate a commercial vehicle.” Mr. Mannis reported that he has driven straight trucks for 11 years, accumulating 1,100 miles, and tractor-trailer combinations for 11 years, accumulating 11,000 miles. He holds a Class A CDL from Arkansas. His driving record for the last 3 years shows no crashes and no convictions for moving violations in a CMV.

George A. McCue

Mr. McCue, 64, has had a prosthetic right eye since childhood due to a benign tumor. The visual acuity in his right eye is no light perception, and in his left eye, 20/20. Following an examination in 2015, his optometrist stated, “In my opinion the patient meets all the vision guidelines set forth by the DMV to operate a commercial vehicle.” Mr. McCue reported that he has driven straight trucks for 20 years, accumulating 5.2 million miles. He holds an operator's license from Nevada. His driving record for the last 3 years shows no crashes and no convictions for moving violations in a CMV.

Kevin D. Mendoza

Mr. Mendoza, 58, has complete loss of vision in his left eye due to a traumatic incident in childhood. The visual acuity in his right eye is 20/20, and in his left eye, no light perception. Following an examination in 2015, his optometrist stated, “Visual perception stable and excellent and new specs mainly for near tasks only and no reason to believe affects CDL driving.” Mr. Mendoza reported that he has driven straight trucks for 36 years, accumulating 630,000 miles. He holds a Class A CDL from Washington. His driving record for the last 3 years shows no crashes and no convictions for moving violations in a CMV.

James Smentkowski

Mr. Smentkowski, 42, has phthisis bulbi secondary to trauma in his right eye due to a traumatic incident in 1995. The visual acuity in his right eye is no light perception, and in his left eye, 20/15. Following an examination in 2015, his optometrist stated, “His left eye has 20/15 vision with out [sic] the need for correction at distance and has demonstrated no restrictions on his commercial vehicle driving ability.”

Mr. Smentkowski reported that he has driven straight trucks for 24 years, accumulating 840,000 miles, and tractor-trailer combinations for 24 years, accumulating 1.2 million miles. He holds a Class A CDL from New Jersey. His driving record for the last 3 years shows one crash, for which he was not cited and to which he did not contribute, and no convictions for moving violations in a CMV.

Neil G. Sturges

Mr. Sturges, 67, has optic nerve damage in his right eye due to a traumatic incident in 1970. The visual acuity in his right eye is light perception, and in his left eye, 20/20. Following an examination in 2015, his optometrist stated,

“Dr. Craig P. Hartnagel, O.D. P.C. fully certifies that Mr. Sturges has sufficient vision in his left eye to perform his duties as an operator of commercial vehicles.” Mr. Sturges reported that he has driven straight trucks for 32 years, accumulating 720,000 miles. He holds an operator's license from New York. His driving record for the last 3 years shows no crashes and no convictions for moving violations in a CMV.

Travis L. Watson

Mr. Watson, 68, has had refractive amblyopia in his right eye since childhood. The visual acuity in his right eye is 20/70, and in his left eye, 20/20. Following an examination in 2015, his optometrist stated, “Mr. Watson has sufficient vision to perform the driving tasks to operate a commercial vehicle.” Mr. Watson reported that he has driven straight trucks for 45 years, accumulating 675,000 miles, and tractor-trailer combinations for 40 years, accumulating 600,000 miles. He holds a Class A CDL from Tennessee. His driving record for the last 3 years shows no crashes and no convictions for moving violations in a CMV.

Bruce W. Williams

Mr. Williams, 49, has had amblyopia and a retinal detachment in his right eye since childhood. The visual acuity in his right eye is 20/200, and in his left eye, 20/20. Following an examination in 2015, his ophthalmologist stated, “Also in my opinion, he does have sufficient vision to perform the driving tasks required to operate a commercial vehicle.” Mr. Williams reported that he has driven tractor-trailer combinations for 20 years, accumulating 200,000 miles. He holds a Class AM CDL from Illinois. His driving record for the last 3 years shows no crashes and no convictions for moving violations in a CMV.

Norman G. Wooten

Mr. Wooten, 51, has had complete loss of vision in his right eye since 2007 due to cancer. The visual acuity in his right eye is no light perception, and in his left eye, 20/25. Following an examination in 2015, his optometrist stated, “There is no reason Mr. Wooten should not be able to perform any visual tasks to include operation of commercial vehicles.” Mr. Wooten reported that he has driven straight trucks for seven years, accumulating 665,000 miles, and tractor-trailer combinations for 18 years, accumulating 1.97 million miles. He holds a Class A CDL from Texas. His driving record for the last 3 years shows no crashes and no convictions for moving violations in a CMV.

Kurt A. Yoder

Mr. Yoder, 40, has had amblyopia in his right eye since childhood. The visual acuity in his right eye is 20/100, and in his left eye, 20/20. Following an examination in 2015, his optometrist stated, “Mr. Yoder should have no problems with continuing with his CDL at this time. They amblyopia is longstanding and he has adjusted to it extremely well.” Mr. Yoder reported that he has driven straight trucks for 13 years, accumulating 494,000 miles, and tractor-trailer combinations for two years, accumulating 156,000 miles. He holds a Class A CDL from Ohio. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0053 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0053 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: June 24, 2015.
Larry W. Minor,
Associate Administrator for Policy.

[FR Doc. 2015-17021 Filed 7-10-15; 8:45 am]

BILLING CODE 4910-EX-P